DEPARTMENT OF ENERGY

Federal Energy Regulatory Commission

[Project No. 485-065]

Georgia Power Company; Notice of Application Tendered for Filing With the Commission and Establishing Procedural Schedule for Licensing and Deadline for Submission of Final Amendments

Take notice that the following hydroelectric application has been filed with the Commission and is available for public inspection.

a. Type of Application: New Major License.

b. Project No.: 485-065.

c. Date Filed: December 14, 2012.

d. Applicant: Georgia Power Company.

e. Name of Project: Bartletts Ferry Hydroelectric Project.

f. Location: The existing project is located on the Chattahoochee River, along the Georgia-Alabama border, in Harris County, Georgia, and Lee and Chambers counties, Alabama. The project does not affect federal lands.

g. Filed Pursuant to: Federal Power Act, 16 U.S.C. 791 (a)-825(r).

h. Applicant Contact: George A. Martin, Hydro Relicensing Project Manager, Georgia Power Company, 241 Ralph McGill Blvd., NE., BIN 10221, Atlanta, GA 30308; Telephone—(404) 506-1357; Email—gamartin@southernco.com.

i. FERC Contact: Allan Creamer, (202) 502-8365, or allan.creamer@ferc.gov.

j. This application is not ready for environmental analysis at this time.

k. The Project Description: The project consists of a 2,052-foot-long dam, two powerhouses, and a 5,850-acre reservoir (Bartletts Ferry Reservoir or Lake Harding) at a normal water surface elevation of 520.16 feet mean sea level (msl; or 521.0 Plant Datum).

The west side of the project, from west to east, consists of: (1) A 1,230-foot-long, 11.25-foot-high, 22-bay auxiliary labyrinth spillway; (2) a 286-foot-long, 35-foot-high, earth-fill embankment dam; (3) a 92-foot-long by 94-foot-high concrete gravity intake structure, equipped with four vertical lift steel intake gates, connected to the west powerhouse by four 15-foot diameter penstocks; (4) a powerhouse containing three vertical Francis turbines rated at 15 megawatts (MW) each and a fourth vertical Francis turbine rated at 20 MW, with a total installed capacity of 65 MW; and (5) a 634-foot-long concrete gravity spillway with nineteen 21-foot-high by 25-foot-wide radial gates, two 9-foot-high by 11-foot-wide vertical lift trash gates, and four abandoned siphons in two spillway bays.

The east side of the project, from west to east, consists of: (1) A 915-foot-long, 125-foot-high, earth-fill embankment dam; (2) a 650-foot-long intake canal leading to a 177-foot-long concrete gravity intake structure; (3) two penstocks; and (4) a powerhouse with two vertical Francis turbines rated at 54 MW each, with a total installed capacity of 108 MW.

The project is operated in a peaking mode, and is coordinated with the peaking operations at the U.S. Army Corps of Engineers' upstream West Point Dam. The project is normally operated between elevations 518.16 and 520.16 feet msl (or 519.0 and 521.0 PD), with normal daily average fluctuations of about ¾ foot. The project has an average annual generation of approximately 395,577 megawatt-hours.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov, or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | April 2013.
Filing of recommendations, preliminary terms and conditions, and fishway prescriptions | June 2013.
Commission issues Draft EA or EIS | December 2013.
Comments on Draft EA or EIS | January 2014.
Modified Terms and Conditions | March 2014.
Commission Issues Final EA or EIS | May 2014.

o. Final amendments to the application must be filed with the Commission no later than 30 days from the issuance date of the notice of ready for environmental analysis.

Dated: December 21, 2012.
Kimberly D. Bose,
Secretary.

[FR Doc. 2013-00014 Filed 1-4-13; 8:45 am]

BILLING CODE 6717-01-P